Title 3—

The President

Proclamation 8298 of October 1, 2008

National Disability Employment Awareness Month, 2008

By the President of the United States of America

A Proclamation

During National Disability Employment Awareness Month, we reaffirm our commitment to ensuring that our Nation's promise extends to all our citizens.

Millions of Americans live with disabilities, and many other Americans will become disabled at some point in their lives. To integrate people with disabilities more fully into every aspect of life, our country is working to advance greater freedoms at work, in schools, and throughout communities. By expanding employment opportunities and fighting false perceptions that hinder people living with disabilities from joining the workforce, we can uphold America's moral values, strengthen our economy, and make America a more hopeful place.

More than 7 years ago, my Administration announced the New Freedom Initiative, which expanded upon the landmark reforms of the Americans with Disabilities Act. Since then, the Initiative has increased access for people with disabilities through technology, provided additional educational opportunities for youth, and integrated more Americans into the workforce. My Administration remains committed to empowering all people to reach their full educational, social, and professional goals. To learn more about the Federal Government's disability-related programs, please visit DisabilityInfo.gov.

To recognize the contributions of Americans with disabilities and to encourage all citizens to ensure equal opportunity in the workforce, the Congress has designated October of each year (36 U.S.C. 121) as “National Disability Employment Awareness Month.”

NOW, THEREFORE, I, GEORGE W. BUSH, President of the United States of America, do hereby proclaim October 2008 as National Disability Employment Awareness Month. I call upon Government officials, labor leaders, employers, and the people of the United States to observe this month with appropriate programs, ceremonies, and activities.

IN WITNESS WHEREOF, I have hereunto set my hand this first day of October, in the year of our Lord two thousand eight, and of the Independence of the United States of America the two hundred and thirty-third.

[FR Doc. E8-23728

Filed 10-3-08; 8:45 am]

Billing code 3195-W9-P